DEPARTMENT OF HOMELAND SECURITY

Coast Guard

33 CFR Part 165

[Docket No. USCG-2021-0453]

Safety Zones; Annual Fireworks Displays Within the Captain of the Port Sector Puget Sound Area of Responsibility

AGENCY: Coast Guard, DHS.

ACTION: Notification of non-enforcement of regulation.

SUMMARY: The Coast Guard will not enforce the Safety Zone for the Seattle Seafair Firework Display in Lake Washington, Seattle, WA in July 2021. The Captain of the Port Sector Puget Sound has determined that enforcement of this regulation is not necessary because Seafair the event was cancelled.

DATES: The Coast Guard does not plan to enforce the Safety Zone for the Seattle Seafair Firework Display in Lake Washington in 33 CFR 165.1332 in July 2021.

FOR FURTHER INFORMATION CONTACT: If you have questions about this notification of non-enforcement, call or email Lieutenant Peter McAndrew, Sector Puget Sound Waterways Management Division, U.S. Coast Guard; telephone 206-217-6051, email SectorPugetSoundWWM@uscg.mil.

SUPPLEMENTARY INFORMATION: The Coast Guard normally enforces the safety zone for the Seattle Seafair Firework Display in Lake Washington, Seattle, WA found in 33 CFR 165.1332 annually during the month of July. This year, the event organizers cancelled Seafair. Therefore, the Coast Guard does not plan to enforce the safety zone for the Seattle Seafair Firework Display in Lake Washington, Seattle, WA found in 33 CFR 165.1332, in July 2021.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 21, 2021.
P.M. Hilbert,
Captain, U.S. Coast Guard, Captain of the Port Sector Puget Sound.

[FR Doc. 2021-13722 Filed 6-25-21; 8:45 am]

BILLING CODE 9110-04-P